FEDERAL HOUSING FINANCE AGENCY

[No. 2023-N-2]

Privacy Act of 1974; System of Records

AGENCY: Federal Housing Finance Agency.

ACTION: Notice of a new system of records.

SUMMARY: In accordance with the requirements of the Privacy Act of 1974, as amended, (Privacy Act), the Federal Housing Finance Agency (FHFA or Agency) is establishing FHFA-30, “Advisory Committee Manager System” (System). This system of records allows FHFA to collect and maintain records submitted to or obtained by FHFA in connection with seeking, choosing, managing, or ending membership on FHFA advisory committees created pursuant to the Federal Advisory Committee Act (FACA).

DATES: In accordance with 5 U.S.C. 552a(e)(4) and (11), this system of records will go into effect without further notice on February 14, 2023, unless otherwise revised pursuant to comments received. Comments must be received on or before March 16, 2023. FHFA will publish a new notice if the effective date is delayed in order for the Agency to review the comments or if changes are made based on comments received.

ADDRESSES: Submit comments to FHFA, identified by “No. 2023-N-2,” using any one of the following methods:

• Agency Website: www.fhfa.gov/open-for-comment-or-input.

• Federal eRulemaking Portal: https://www.regulations.gov. Follow the instructions for submitting comments. If you submit your comments to the Federal eRulemaking Portal, please also send it by email to FHFA at RegComments@fhfa.gov to ensure timely receipt by FHFA. Please include “Comments/No. 2023-N-2,” in the subject line of the message.

• Hand Delivered/Courier: The hand delivery address is: Clinton Jones, General Counsel, Attention: Comments/No. 2023-N-2, Federal Housing Finance Agency, 400 Seventh Street SW, Washington, DC 20219. The package should be delivered to the Seventh Street entrance Guard Desk, First Floor, on business days between 9 a.m. and 5 p.m., EST.

• U.S. Mail, United Parcel Service, Federal Express, or Other Mail Service: The mailing address for comments is: Clinton Jones, General Counsel, Attention: Comments/No. 2023-N-2, Federal Housing Finance Agency, 400 Seventh Street SW, Washington, DC 20219. Please note that all mail sent to FHFA via the U.S. Postal Service is routed through a national irradiation facility, a process that may delay delivery by approximately two weeks. For any time-sensitive correspondence, please plan accordingly. See SUPPLEMENTARY INFORMATION for additional information on submission and posting of comments.

FOR FURTHER INFORMATION CONTACT: Stacy Easter, Privacy Act Officer, Privacy@FHFA.gov or (202) 649-3803; or Tasha Cooper, Senior Agency Official for Privacy, Privacy@FHFA.gov or (202) 649-3091 (not toll-free numbers), Federal Housing Finance Agency, 400 Seventh Street SW, Washington, DC 20219. For TTY/TRS users with hearing and speech disabilities, dial 711 and ask to be connected to any of the contact numbers above.

SUPPLEMENTARY INFORMATION:

I. Comments

FHFA seeks public comments on a new system of records and will take all comments into consideration. See 5 U.S.C. 552a(e)(4) and (11). In addition to referencing “Comments/No. 2023-N-2,” please reference “FHFA-30, Advisory Committee Manager System.”

FHFA will make all comments timely received available for examination by the public through the electronic comment docket for this notice, which is located on the FHFA website at https://www.FHFA.gov. All comments received will be posted without change and will include any personal information you provide, such as name, address (mailing and email), telephone numbers, and any other information you provide.

II. Introduction

This notice informs the public of FHFA's proposal to establish and maintain a new system of records. This notice satisfies the Privacy Act requirement that an agency publishes a system of records notice in the Federal Register when establishing a new or making a significant change to an agency's system of records. Congress has recognized that application of all requirements of the Privacy Act to certain categories of records may have an undesirable and often unacceptable effect upon agencies in the conduct of necessary public business. Consequently, Congress established general exemptions and specific exemptions that could be used to exempt records from provisions of the Privacy Act. Congress also required that exempting records from provisions of the Privacy Act would require the head of an agency to publish a determination to exempt a record from the Privacy Act as a rule in accordance with the Administrative Procedure Act. Records and information in this system of records are not exempt from the requirements of the Privacy Act.

As required by the Privacy Act, 5 U.S.C. 552a(r), and pursuant to section 7 of Office of Management and Budget (OMB) Circular No. A-108, “Federal Agency Responsibilities for Review, Reporting, and Publication under the Privacy Act”, prior to publication of this notice, FHFA submitted a report describing the system of records covered by this notice to the OMB, the Committee on Oversight and Government Reform of the House of Representatives, and the Committee on Homeland Security and Governmental Affairs of the Senate.

In accordance with the Privacy Act of 1974, 5 U.S.C. 552a, FHFA proposes two new routine uses for this system, in addition to the general routine uses applicable to this system and described below. First, FHFA may disclose information to the Library of Congress, OMB, Executive Office of the President, or General Services Administration, when necessary and relevant to FHFA's management of the advisory committee, including FHFA's consideration of applicants for membership on an advisory committee, or to comply with any obligations to report information about advisory committees. This use is compatible with the purpose of the collection, which is to administer advisory committees in accordance with the Federal Advisory Committee Act. Second, FHFA may disclose information from this system to the public to inform the public about the identity and qualifications of individuals selected to serve as members of advisory committees. As one of the purposes of the Federal Advisory Committee Act is to ensure transparency to the public about advisory committee advice and activities, a routine use permitting disclosure of information about advisory committee members is compatible with the purpose of the collection.

III. New System of Records

The information in this system of records will be used by FHFA for storing and reviewing application materials submitted by applicants for membership on FHFA advisory committees/subcommittees, choosing members for FHFA advisory committees based on those application materials, managing membership on such FHFA committees, including but not limited to membership termination, and conducting required oversight and compliance over FHFA advisory committee appointments and actions. The new system of records is described in detail below.

SYSTEM NAME AND NUMBER:

Advisory Committee Manager System, FHFA-30.

SECURITY CLASSIFICATION:

Unclassified.

SYSTEM LOCATION:

Federal Housing Finance Agency, 400 Seventh Street SW, Washington, DC 20219, and any alternate work site used by employees of FHFA, including FHFA-authorized cloud service provider (Amazon Web Service, which is Federal Risk and Authorization Management Program (FedRAMP) authorized).

SYSTEM MANAGER(S):

Samuel Frumkin, Advisory Committee Management Officer, Division of Housing Mission and Goals, (202) 649-4108, Federal Housing Finance Agency, 400 Seventh Street SW, Washington, DC 20219.

AUTHORITY FOR MAINTENANCE OF THE SYSTEM:

Federal Advisory Committee Act (Pub. L. 92-463, 5 U.S.C. chapter 10); 12 U.S.C. 4511(b)(2); 12 U.S.C. 4513(a)(2)(B); 44 U.S.C. 3101; 41 CFR part 102-3 (Federal Advisory Committee Management); and OMB Circular A-135, Management of Federal Advisory Committees (Oct. 5, 1994).

PURPOSE(S) OF THE SYSTEM:

1. To collect and maintain information on FHFA past, present, and proposed advisory committee/subcommittee members subject to the FACA.

2. To identify the most qualified applicants and ensure balanced advisory committees/subcommittees.

3. To advise, inform, and provide input and recommendations to the FHFA Director.

4. To conduct required oversight and compliance over FHFA advisory committee/subcommittee appointments and actions.

CATEGORIES OF INDIVIDUALS COVERED BY THE SYSTEM:

Individuals covered by this System are:

1. Individuals who apply to be on a committee/subcommittee and will be considered for committee/subcommittee appointment;

2. Individuals currently serving on a committee/subcommittee;

3. Individuals selected or serving as alternate members on a committee/subcommittee; and

4. Individuals who previously served on a committee/subcommittee.

Note: Individuals may be appointed to serve on an advisory committee pursuant to 5 U.S.C. 3109 as a special government employee.

CATEGORIES OF RECORDS IN THE SYSTEM:

Records maintained in this System may contain information from members of the general public who submit applications for membership on FHFA advisory committees/subcommittees, including but not limited to the following: names; places and dates of birth (DOBs); business and personal mailing addresses, email addresses, and telephone numbers; educational history, degrees, and certifications; affiliated companies or organizations; employment history and related information; any foreign activities or interests; and any other information collected to determine if an individual is qualified to serve on an advisory committee/subcommittee as well as to describe committee/subcommittee appointments, all activities, and any related expenses.

RECORD SOURCE CATEGORIES:

Information is obtained directly from the individual applicants or from other individuals or entities submitting information in support of, for, or on behalf of an applicant via the resumes and related materials submitted to FHFA in seeking membership on FHFA advisory committees/subcommittees.

ROUTINE USES OF RECORDS MAINTAINED IN THE SYSTEM, INCLUDING CATEGORIES OF USERS AND PURPOSES OF SUCH USES:

In addition to those disclosures generally permitted under 5 U.S.C. 552a(b) of the Privacy Act, these records and information contained therein may specifically be disclosed outside of FHFA as a routine use pursuant to 5 U.S.C. 552a(b)(3) as follows, to the extent such disclosures are compatible with the purposes for which the information was collected:

(1) To appropriate agencies, entities, and persons when: (a) FHFA suspects or has confirmed that there has been a breach of the system of records; (b) FHFA has determined that as a result of a suspected or confirmed breach there is a risk of harm to individuals, FHFA (including its information systems, programs, and operations), the Federal Government, or national security; and (c) the disclosure made to such agencies, entities, and persons as reasonably necessary to assist with FHFA's efforts to (i) respond to a suspected or confirmed breach or (ii) prevent, minimize, or remedy harm caused by such breach.

(2) To a federal agency or federal entity, when FHFA determines information from this system of records is reasonably necessary to assist the recipient agency or entity in: (a) responding to a suspected or confirmed breach or (b) preventing, minimizing, or remedying the risk of harm to individuals, the recipient agency or entity (including its information systems, programs, and operations), the Federal Government, or to national security, resulting from a suspected or confirmed breach.

(3) When there is an indication of a violation or potential violation of law (whether civil, criminal, or regulatory in nature, and whether arising by general statute or particular program statute or by regulation, rule or order issued pursuant thereto), the relevant records in the system of records may be referred, as a routine use, to the appropriate agency (e.g., federal, state, local, tribal, foreign or a financial regulatory organization) charged with the responsibility of investigating or prosecuting such violation or charged with enforcing or implementing a statute, rule, regulation or order issued pursuant thereto.

(4) To any individual during the course of any inquiry or investigation conducted by FHFA, or in connection with civil litigation, if FHFA has reason to believe the individual to whom the record is disclosed may have further information about the matters related thereto, and those matters appeared to be relevant and necessary at the time to the subject matter of the inquiry.

(5) To a Congressional office in response to an inquiry from the Congressional office made at the request of and on behalf of the Congressional Offices' constituents included in the system.

(6) To the Office of Management and Budget, Department of Justice (DOJ), Department of Labor, Office of Personnel Management, Equal Employment Opportunity Commission, Office of Special Counsel, Merit Systems Protection Board, or other federal agencies to obtain advice regarding statutory, regulatory, policy, and other requirements related to fair lending oversight.

(7) To appropriate third parties contracted by FHFA to facilitate mediation or other dispute resolution procedures or programs.

(8) To outside counsel contracted by FHFA, the U.S. Department of Justice (DOJ), (including United States Attorney Offices), or other federal agencies conducting litigation or in proceedings before any court, adjudicative or administrative body, when it is relevant and necessary to the litigation and one of the following is a party to the litigation or has an interest in such litigation:

a. FHFA;

b. Any employee of FHFA in their official capacity;

c. Any employee of FHFA in their individual capacity for whom DOJ or FHFA has agreed to represent the employee; or

d. The United States or any agency thereof, is a party to the litigation or has an interest in such litigation, and FHFA determines that the records are both relevant and necessary to the litigation.

(9) To the National Archives and Records Administration or other federal agencies pursuant to records management inspections being conducted under the authority of 44 U.S.C. 2904 and 2906.

(10) To an agency, organization, or individual for the purpose of performing audit or oversight operations as authorized by law, but only such information as relevant and necessary to such audit or oversight functions.

(11) To federal agencies for fair lending and fair housing research, investigation, supervision, and enforcement purposes.

(12) To the Library of Congress, Executive Office of the President, Office of Management and Budget, or General Services Administration when necessary in the administration of FHFA's advisory committee(s), including complying with reporting obligations.

(13) To the public, when FHFA deems it necessary to inform the public of advisory committee membership qualifications or activities.

POLICIES AND PRACTICES FOR STORAGE OF RECORDS:

Records are maintained in electronic format. Electronic records are stored on FHFA's secured network, FHFA-authorized cloud service providers and FHFA-authorized contractor networks located within the Continental United States; or in vendor Cloud Service Offerings certified under FedRAMP.

POLICIES AND PRACTICES FOR RETRIEVAL OF RECORDS:

Records will be retrieved by an individual's name.

POLICIES AND PRACTICIES FOR RETENTION AND DISPOSAL OF RECORDS:

Records are retained and disposed of in accordance with FHFA's Comprehensive Records Schedule (CRS) Item 6.2.01-06, as applicable. Comprehensive Record Schedule, Item 6.2 (N1-543-11-1, approved on 01/11/2013).

ADMINISTRATIVE, TECHNICAL, AND PHYSICAL SAFEGUARDS:

Electronic records are protected by controlled access procedures. Only FHFA staff who are permitted to perform the selection and review functions required for forming FHFA advisory committees or whose official duties otherwise require access, are allowed to view, administer, and control these records. Non-FHFA personnel will not have or be granted access to these records. Records will be stored on the FHFA General Support System (GSS) and protected by Microsoft Office 365 Multi-Tenant and Supporting Services and the Microsoft Azure Cloud, both of which are authorized by FedRAMP at the Moderate Impact Level.

RECORD ACCESS PROCEDURES:

See “Notification Procedures” Below.

CONTESTING RECORD PROCEDURES:

See “Notification Procedures” Below.

NOTIFICATION PROCEDURES:

Individuals seeking notification of any records about themselves contained in this System should address their inquiry to the Privacy Act Officer, via email to Privacy@fhfa.gov or by mail to the Federal Housing Finance Agency, 400 Seventh Street SW, Washington, DC 20219, or in accordance with the procedures set forth in 12 CFR part 1204. Please note that all mail sent to FHFA via the U.S. Postal Service is routed through a national irradiation facility, a process that may delay delivery by approximately two weeks. For any time-sensitive correspondence, please plan accordingly.

EXEMPTIONS PROMULGATED FOR THE SYSTEM:

None.

HISTORY:

None.

Clinton Jones,
General Counsel, Federal Housing Finance Agency.

[FR Doc. 2023-03079 Filed 2-13-23; 8:45 am]

BILLING CODE 8070-01-P